DEPARTMENT OF HOUSING AND URBAN DEVELOPMENT

[Docket No. FR-5366-N-01]

Notice of Intent To Prepare a Draft Environmental Impact Statement for the Baldwin Hills Crenshaw Plaza Redevelopment Project

AGENCY: Office of the Assistant Secretary for Community Planning and Development, HUD.

ACTION: Notice.

SUMMARY: The Department of Housing and Urban Development (HUD) gives notice to the public, agencies, and Indian tribes that the Community Redevelopment Agency of the City of Los Angeles and City of Los Angeles, Community Development Department intend to prepare an Environmental Impact Report/Environmental Impact Statement (EIR/EIS) for the Baldwin Hills Crenshaw Plaza Redevelopment Project located in the City of Los Angeles, Los Angeles County, CA. The City of Los Angeles, Community Development Department, and the Community Redevelopment Agency of the City of Los Angeles acting jointly as the lead agencies will prepare the EIR/EIS acting under the authority of the City of Los Angeles as the responsible entity for compliance with the National Environmental Policy Act (NEPA) in accordance with 42 U.S.C. 5304(g) and 42 U.S.C. 12838 and HUD regulations at 24 CFR 58.4, and under their authority as lead agency in accordance with the California Environmental Quality Act (CEQA). The EIR/EIS will be a joint NEPA and CEQA document. The EIR will satisfy requirements of CEQA (Public Resources Code 21000 et seq.) and the State CEQA Guidelines (14 California Code of Regulations 15000 et seq.), which require that all state and local government agencies consider the environmental consequences of projects over which they have discretionary authority before acting on those projects. The proposed action is subject to compliance with NEPA, because Economic Development Initiative (EDI) and accompanying Section 108 Loans, Community Development Block Grants (CDBG), Urban Development Assistance Grant (UDAG), Neighborhood Stabilization Program, and HOME Funds would be used for the development. In addition, the developer may also apply for federal Recovery Zone Bonds (Recovery Zone Facility Bonds [RZFD], Recovery Zone Economic Development Bonds [RZEDB]), New Market Tax Credits (NMTC), and Federal Historic Preservation Tax Incentives. This notice is given in accordance with the Council on Environmental Quality regulations at 40 CFR parts 1500-1508. All interested federal, state, and local agencies, Indian tribes, groups, and the public are invited to comment on the scope of the EIS. If you are an agency with jurisdiction by law over natural or other public resources affected by the project, the Community Redevelopment Agency of the City of Los Angeles and City of Los Angeles, Community Development Department needs to know what environmental information germane to your statutory responsibilities should be included in the EIR/EIS.

ADDRESSES: Comments relating to the scope of the EIS are requested and will be accepted by the contact persons listed below until February 10, 2010. Any person or agency interested in receiving a notice and wishing to make comment on the draft EIS should contact the persons listed below.

FOR FURTHER INFORMATION CONTACT: Dr. Robert Manford, Community Redevelopment Agency of the City of Los Angeles, (p) 213-977-1912, (f) 213-687-9546, rmanford@cra.lacity.org (CEQA) and Mr. Tony Kochinas, City of Los Angeles, Community Development Department, (p) 213-744-7384, (f) 213-744-9038, tony.kochinas@lacity.org (NEPA).

Public Participation: The public will be invited to participate in the review of the Draft EIR/EIS. Release of the Draft EIR/EIS will be announced through public mailings as well as the local news media.

SUPPLEMENTARY INFORMATION:

Project Name and Description

The Community Redevelopment Agency of the City of Los Angeles and City of Los Angeles, Community Development Department will consider a proposal to redevelop the Baldwin Hills Crenshaw Plaza to include a mixed-use retail/commercial/office/hotel and residential project totaling up to approximately 3,435,726 square feet of development. The project site is 42.42-acres in size and is located on the Hollywood 7.5-minute U.S.G.S topographic quadrangle map, at 3650 West Martin Luther King Boulevard in Los Angeles, California. The site is relatively flat and currently developed with an existing retail center. The site is bordered on the north by West 39th Street, on the east by Crenshaw Boulevard, on the southeast by Stocker Street, on the southwest by Santa Rosalita Drive, and on the west by Marlton Avenue. The site is bisected by Martin Luther King Jr. Boulevard.

The project site is surrounded by a mix of urban land uses. Existing commercial uses are located to the north of 39th Street. Land uses along Crenshaw Boulevard between 39th Street and Martin Luther King Jr. Boulevard include two-story multi-family residential units, single-story commercial buildings, and surface parking. Uses along Crenshaw Boulevard between Martin Luther King Jr. Boulevard and Stocker Street include single-story commercial uses and associated surface parking. Land uses along Stocker Street include commercial and multi-family uses. Uses to the west along Marlton Avenue between Santa Rosalita and Martin Luther King Jr. Boulevard include a senior housing complex and the location of the proposed Santa Barbara Plaza (also known as “Marlton Square”) Redevelopment Site, while land uses along Marlton Avenue between Martin Luther King Jr. Boulevard and 39th Street consists of four-story multi-family buildings above parking garages.

The project would require the following discretionary approvals:

• Tentative Map to subdivide the Project Site and approve any condominiums.

• Conditional Use Permit (CUP) to approve a hotel within 500 feet of an R-zone.

• CUP to approve floor area averaging for a unified development.

• CUP for new alcoholic beverage uses.

• Zone Variances to address density, floor area, building height, setback, open space, parking, and other design issues.

• Site Plan Review.

• Sign District Permissible Display Area to exceed the normal sign area limits for the Project Site.

This is to be a combined document—EIR (Environmental Impact Report) under the State of California California Environmental Quality Act (Public Resources Code 21000 et seq. and 14 California Code of Regulations 15000 et seq.) and EIS (Environmental Impact Statement) under NEPA (42 U.S.C. 4321) and implementing regulations of the Council on Environmental Quality (40 CFR parts 1500-1508) and HUD (24 CFR Part 58).

The project proposes the demolition of approximately 257,000 square feet of the existing mall structures. Portions of the enclosed mall would be retained and rehabilitated. New buildings would also be constructed to increase the amount of retail and commercial services at the site and to provide new uses to the area such as an office building, a hotel with meeting rooms, and residential units available for purchase and rent. The pedestrian bridge over Martin Luther King Jr. Boulevard would be retained to allow continued operation as a single connected facility. The project would develop four anchor retail stores including an automotive center (totaling approximately 535,000 square feet), two grocery stores (totaling approximately 85,000 square feet), restaurants (both in mall and as stand-alone restaurants totaling approximately 156,000 square feet), a movie theater (3,100 seats), bowling alley and bars (totaling approximately 40,000 square feet), dance studio and fitness uses (totaling 70,000 square feet), office uses (150,000 square feet), a 400-room hotel with meeting rooms and two restaurants, and 551 condominium units, and 410 apartment units.

Alternatives to the Proposed Action

There are four alternatives to the proposed action to be analyzed in the EIR/EIS: Reduced Density Alternative 1, Reduced Density Alternative 2, Reduced Density Alternative 3, and the No Project Alternative. Except for the No Project Alternative, all the alternatives are reduced density variations of the proposed project.

Reduced Density Alternative 1

The Reduced Density Alternative 1 would develop the same type and range of land uses as proposed for the project including anchor retail, grocery stores, restaurants, entertainment and fitness uses, hotel, and residential uses. However, the Reduced Density Alternative 1 proposes the development of up to 3,071,325 square feet at the project site. The Reduced Density Alternative 1 would provide a net increase of approximately 2,073,717 square feet of development compared to the existing uses. Reduced Density Alternative 1 would develop four anchor retail stores including an automotive center (totaling approximately 387,000 square feet), two grocery stores (totaling approximately 85,000 square feet), restaurants (both in mall and as standalone restaurants totaling approximately 126,000 square feet), a movie theater (2,600 seats), bowling alley and bars (totaling approximately 35,000 square feet), dance studio and fitness uses (totaling 70,000 square feet), office uses (148,000 square feet), a 400-room hotel with meeting rooms and two restaurants, and 551 condominium units, and 410 apartment units.

Reduced Density Alternative 2

The Reduced Density Alternative 2 would develop the same type and range of land uses as proposed for the project including anchor retail, grocery stores, restaurants, entertainment and fitness uses, hotel, and residential uses. However, the Reduced Density Alternative 2 would involve the development of up to 2,980,726 square feet at the project site. The Reduced Density Alternative 2 would provide a net increase of approximately 1,983,117 square feet of development compared to the existing uses. Reduced Density Alternative 2 would develop four anchor retail stores including an automotive center (totaling approximately 387,000 square feet), two grocery stores (totaling approximately 85,000 square feet), restaurants (both in mall and as standalone restaurants totaling approximately 90,000 square feet), a movie theater (2,600 seats), bowling alley and bars (totaling approximately 35,000 square feet), dance studio and fitness uses (totaling 70,000 square feet), office uses (108,000 square feet), a 400-room hotel with meeting rooms and two restaurants, and 551 condominium units, and 410 apartment units.

Reduced Density Alternative 3

The Reduced Density Alternative 3 would develop the same type and range of land uses as proposed for the project including anchor retail, grocery stores, restaurants, entertainment and fitness uses, hotel, and residential uses. However, the Reduced Density Alternative 3 would involve the development of up to 2,897,726 square feet at the project site. The Reduced Density Alternative 3 would provide a net increase of approximately 1,900,117 square feet of development compared to the existing uses. Reduced Density Alternative 3 would develop four anchor retail stores including an automotive center (totaling approximately 387,000 square feet), two grocery stores (totaling approximately 85,000 square feet), restaurants (both in mall and as standalone restaurants totaling approximately 80,000 square feet), a movie theater (2,600 seats), bowling alley and bars (totaling approximately 25,000 square feet), dance studio and fitness uses (totaling 55,000 square feet), office uses (75,000 square feet), a 400-room hotel with meeting rooms and two restaurants, and 551 condominium units, and 410 apartment units.

No Project Alternative

The No Project Alternative would analyze the “no action” alternative, which would be the continuation of uses on the site; therefore, existing buildings and tenants would remain at the project site and no new buildings or uses would be constructed.

Probable Environmental Effects

The following subject areas will be analyzed in the combined EIR/EIS for probable environmental effects: Aesthetics (views/light and glare, and shade/shadow), Air Quality (Construction and Operational), Cultural/Historic Resources, Geology/Soils, Hydrology/Water Quality, Land Use and Planning, Noise (Construction and Operational), Population and Housing, Public Services (Fire, Police, Schools, Parks, Libraries), Transportation and Circulation, Parking, and Public Utilities (Wastewater, Water, Solid Waste, and Energy Conservation).

Lead Agencies

As a lead agency, the City of Los Angeles, through its Community Development Department, is the responsible entity (RE) for this project in accordance with 24 CFR part 58, “Environmental Review Procedures for Entities Assuming HUD Environmental Responsibilities.” As a RE, the City of Los Angeles assumes the responsibility for environmental review, decision-making, and action that would otherwise apply to HUD under NEPA. Section 104 (g) of Title I of the Housing and Community Development Act (42 U.S.C. 5304(g)) and Section 288 of the HOME Investment Partnerships Act (42 U.S.C. 12838) allow authorized recipients of HUD assistance to assume NEPA responsibilities in projects involving CDBG and HOME funds.

In addition, the Community Redevelopment Agency of the City of Los Angeles is the California Environmental Quality Act (CEQA) lead agency responsible for preparing an Environmental Impact Report (EIR).

Questions may be directed to the individuals named in this notice under the heading FOR FURTHER INFORMATION CONTACT.

Dated: December 18, 2009.
Mercedes Marquez,
Assistant Secretary for Community Planning and Development.

[FR Doc. 2010-283 Filed 1-8-10; 8:45 am]

BILLING CODE 4210-67-P